Proclamation 10621 of September 8, 2023

World Suicide Prevention Day, 2023

By the President of the United States of America

A Proclamation

On World Suicide Prevention Day, we hold all those affected by suicide close in our hearts—the Americans we have lost to this public health problem, the loved ones who mourn their heart-wrenching losses, and all the families and professionals working to support those in crisis. Though we recognize there is no single cause or single solution to suicide, we know that access to support and treatment can save lives. My Administration remains committed to expanding suicide prevention programs to reach every community in our Nation and ensuring all Americans can receive the care and support they deserve.

My Administration is working to tackle the mental health crisis, including by addressing the many risk factors associated with suicide—it is a core pillar of my Unity Agenda and one of the big challenges we as a society can overcome together. We have laid out a strategy to transform how mental health is understood, accessed, treated, and integrated in and out of health care settings. Our goals are to strengthen the mental health system's capacity, connect more Americans to care, and create healthy environments that strengthen mental health.

In 2021, more than 48,000 Americans were lost to suicide, over 12.3 million adults seriously considered suicide, and 1.7 million people attempted suicide. Suicide is the second leading cause of death among youth and young adults between the ages of 10 and 24 years old. And the suicide rate for veterans was more than 50 percent greater than for non-veteran adults. Yet despite the fact that so many Americans struggle with their mental health, treatment is often too expensive or inaccessible.

In 2021, less than half of all adults with mental illness received care for it. For children, the numbers are even worse. Nearly 70 percent of our kids who seek care for mental health or substance use cannot get it. Parents, teachers, school nurses, and counselors are telling us there is a serious youth mental health crisis happening right now in this country. But insurers still make it far too difficult to get mental health care. With too few mental health providers in their plan's network, patients with private insurance are often forced to seek out-of-network care at significantly higher costs, if they can find it.

Recently, my Administration proposed new steps to meaningfully expand access to mental health care in America, including requiring health insurance plans to identify gaps in the mental health care that they provide and to fix them. Under this plan, insurers would have to measure how often they require prior authorization for mental health care treatment and how often they deny those requests.

I have heard the despair from families everywhere, watching their spouse's, child's, or loved one's light dim, knowing they need help but lacking the means to get it. This sense of helplessness strips families of their confidence and dignity. Health insurers should cover mental health crises the same way they would cover treatment for a broken bone or any other physical health condition. Since I took office, my Administration has been fighting to make that a reality.

Our American Rescue Plan delivered nearly $5 billion to expand Federal and State mental health and substance use services. Last year, when we passed the Nation's first major gun safety law in nearly three decades, we added measures to further expand the number of school psychologists and counselors available to our kids, make it easier for schools to use Medicaid to deliver mental health services, and increase the number of Certified Community Behavioral Health Clinics that deliver 24/7 care.

We have also launched 988, the National Suicide and Crisis Lifeline, which connects those experiencing a mental health crisis to a trained crisis counselor right away. And we established the National Maternal Mental Health Hotline to help mothers navigate mental health issues that can be reached by dialing 1-833-TLC-MAMA (1-833-852-6262). And to those experiencing emotional distress or thoughts of suicide: Please know that you are loved and that there is hope. I encourage you to call or text 988 for free, confidential support.

We are also investing in mental health care and suicide prevention efforts for service members and veterans to better honor our sacred obligation to the troops we send into harm's way by caring for them and their families when they return. We are hiring more mental health professionals and investing in programs that recruit veterans to help others get the support they need. We are working to expand rental assistance and job placement programs for our veterans to help reduce financial strain. And to help our first responders heal from any trauma they faced on the job, I have also signed laws that extend counseling, benefits, and other mental health resources.

As the world joins together to honor the memories of those we lost to suicide and their loved ones, may we recommit to ensuring that help and support are accessible and affordable to every American.

NOW, THEREFORE, I, JOSEPH R. BIDEN JR., President of the United States of America, by virtue of the authority vested in me by the Constitution and the laws of the United States, do hereby proclaim September 10, 2023, as World Suicide Prevention Day. I call upon all Americans, communities, organizations, and levels of government to join me in creating hope through action and committing to preventing suicide across America.

IN WITNESS WHEREOF, I have hereunto set my hand this eighth day of September, in the year of our Lord two thousand twenty-three, and of the Independence of the United States of America the two hundred and forty-eighth.

[FR Doc. 2023-19923

Filed 9-12-23; 8:45 am]

Billing code 3395-F3-P